DEPARTMENT OF TRANSPORTATION

Federal Aviation Administration

14 CFR Part 95

[Docket No. 31570; Amdt. No. 581]

IFR Altitudes; Miscellaneous Amendments

AGENCY: Federal Aviation Administration (FAA), Department of Transportation (DOT).

ACTION: Final rule.

SUMMARY: This amendment adopts miscellaneous amendments to the required IFR (instrument flight rules) altitudes and changeover points for certain Federal airways, jet routes, or direct routes for which a minimum or maximum en route authorized IFR altitude is prescribed. This regulatory action is needed because of changes occurring in the National Airspace System. These changes are designed to provide for the safe and efficient use of the navigable airspace under instrument conditions in the affected areas.

DATES: Effective: 0901 UTC, 31 October 2024.

FOR FURTHER INFORMATION CONTACT: Thomas J. Nichols, Flight Procedures and Airspace Group, Flight Technologies and Procedures Division, Flight Standards Service, Federal Aviation Administration. Mailing Address: FAA Mike Monroney Aeronautical Center, Flight Procedures and Airspace Group, 6500 South MacArthur Blvd., STB Annex, Bldg. 26, Room 217, Oklahoma City, OK 73169-6918. Telephone: (405) 954-1139.

SUPPLEMENTARY INFORMATION: This amendment to part 95 of the Federal Aviation Regulations (14 CFR part 95) amends, suspends, or revokes IFR altitudes governing the operation of all aircraft in flight over a specified route or any portion of that route, as well as the changeover points (COPs) for Federal airways, jet routes, or direct routes as prescribed in part 95.

The Rule

The specified IFR altitudes, when used in conjunction with the prescribed changeover points for those routes, ensure navigation aid coverage that is adequate for safe flight operations and free of frequency interference. The reasons and circumstances that create the need for this amendment involve matters of flight safety and operational efficiency in the National Airspace System, are related to published aeronautical charts that are essential to the user, and provide for the safe and efficient use of the navigable airspace. In addition, those various reasons or circumstances require making this amendment effective before the next scheduled charting and publication date of the flight information to assure its timely availability to the user. The effective date of this amendment reflects those considerations. In view of the close and immediate relationship between these regulatory changes and safety in air commerce, I find that notice and public procedure before adopting this amendment are impracticable and contrary to the public interest and that good cause exists for making the amendment effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 95

Airspace, Navigation (air).

Issued in Washington, DC, on September 20, 2024.
Thomas J. Nichols,
Manager, Aviation Safety, Flight Standards Service, Standards Section, Flight Procedures & Airspace Group, Flight Technologies and Procedures Division.

Adoption of the Amendment

Accordingly, pursuant to the authority delegated to me by the Administrator, part 95 of the Federal Aviation Regulations (14 CFR part 95) is amended as follows effective at 0901 UTC, 31 October 2024.

PART 95—IFR Altitudes

1. The authority citation for part 95 continues to read as follows:

Authority: 49 U.S.C. 106(g), 40103, 40113 and 14 CFR 11.49(b)(2).

2. Part 95 is amended to read as follows:

Revisions to IFR Altitudes & Changeover Point
[AMENDMENT 581 effective date October 31, 2024]
From | To | MEA | MAA
§ 95.3000 Low Altitude RNAV Routes
§ 95.3204 RNAV Route T204 Is Amended To Delete
TAYLOR, FL VORTAC | BRUNSWICK, GA VORTAC | 2100 | 15000
§ 95.3210 RNAV Route T210 Is Amended by Adding
MILLP, FL WP | MHOUS, FL WP | 2000 | 17500
MHOUS, FL WP | GRNVL, FL WP | 2400 | 17500
GRNVL, FL WP | HADDE, FL FIX | 1900 | 17500
VARZE, FL WP | WEZER, FL WP | 2000 | 17500
Is Amended To Read in Part
HADDE, FL FIX | MISSM, FL WP | 2000 | 17500
§ 95.3254 RNAV Route T254 Is Amended by Adding
SAN ANGELO, TX VORTAC | DILLO, TX WP | 4000 | 17500
DILLO, TX WP | KALLA, TX FIX | * 4100 | 17500
* 2900-MOCA
KALLA, TX FIX | DOWWD, TX WP | 4100 | 10000
DOWWD, TX WP | COLLEGE STATION, TX VORTAC | 2400 | 10000
CREPO, TX WP | KNZLY, LA WP | 2200 | 15000
Is Amended To Delete
CREPO, TX WP | LAKE CHARLES, LA VORTAC | 2200 | 15000
§ 95.3328 RNAV Route T328 Is Amended by Adding
PRRKS, WA WP | ZAGGS, WA WP | 7500 | 17500
ZAGGS, WA WP | INOBE, ID WP | 7300 | 17500
Is Amended To Delete
PRRKS, WA WP | DAINA, WA WP | 7500 | 17500
DAINA, WA WP | INOBE, ID FIX | 7300 | 17500
§ 95.3336 RNAV Route T336 Is Amended by Adding
MILLP, FL WP | TERES, FL FIX | * 2100 | 17500
* 1600-MOCA
TERES, FL FIX | HEVVN, FL FIX | 1700 | 17500
HEVVN, FL FIX | CCITY, FL WP | 1800 | 17500
CCITY, FL WP | FUTSY, FL WP | 2500 | 17500
Is Amended To Delete
TROYR, FL WP | FUTSY, FL WP | 2500 | 17500
§ 95.3341 RNAV Route T341 Is Amended by Adding
ZAGPO, FL WP | KNRAD, FL WP | 1700 | 17500
KNRAD, FL WP | CUSEK, FL WP | 1800 | 17500
CUSEK, FL WP | FEBRO, FL WP | 1900 | 17500
FEBRO, FL WP | YELLZ, FL WP | 2000 | 17500
OMMNI, FL WP | WALEE, FL WP | 1900 | 17500
WALEE, FL WP | MARQO, FL WP | 2100 | 17500
MARQO, FL WP | TWEST, GA WP | 2100 | 17500
TWEST, GA WP | DURBE, SC WP | 2000 | 17500
DURBE, SC WP | HARAB, SC FIX | 2000 | 17500
HARAB, SC FIX | VANNC, SC WP | 1900 | 17500
VANNC, SC WP | MADLY, SC WP | 2100 | 17500
MADLY, SC WP | DUTEE, SC WP | 1800 | 17500
DUTEE, SC WP | FLRNS, SC WP | 1900 | 17500
Is Amended To Delete
ZAGPO, FL WP | CUSEK, FL WP | 1700 | 17500
CUSEK, FL WP | YELLZ, FL WP | 1900 | 17500
OMMNI, FL WP | WHOOU, FL WP | 2100 | 12000
WHOOU, FL WP | MARQO, FL WP | 1900 | 12000
Is Amended To Read in Part
DULFN, FL WP | OMMNI, FL WP | 1900 | 17500
§ 95.3343 RNAV Route T343 Is Amended To Read in Part
CUSEK, FL WP | FEBRO, FL WP | 1900 | 17500
§ 95.3349 RNAV Route T349 Is Amended by Adding
NEWER, FL FIX | GILBI, FL FIX | 1700 | 17500
GILBI, FL FIX | KNRAD, FL WP | 1700 | 17500
KNRAD, FL WP | CUSEK, FL WP | 1800 | 17500
CUSEK, FL WP | QUNCY, FL FIX | 1800 | 17500
QUNCY, FL FIX | FEBRO, FL WP | 1900 | 17500
FEBRO, FL WP | YELLZ, FL WP | 2000 | 17500
YELLZ, FL WP | WEZER, FL WP | 2000 | 17500
WEZER, FL WP | VARZE, FL WP | 2000 | 17500
VARZE, FL WP | EXWAY, FL WP | 2000 | 17500
EXWAY, FL WP | CCITY, FL WP | 1900 | 17500
CCITY, FL WP | CODYS, FL FIX | 1800 | 17500
CODYS, FL FIX | OLUGY, FL FIX | 1900 | 17500
OLUGY, FL FIX | OALDY, AL FIX | 2000 | 17500
OALDY, AL FIX | LYFEE, AL WP | 2300 | 17500
Is Amended To Delete
VARZE, FL WP | MILOW, FL WP | 1900 | 17500
MILOW, FL WP | MURDE, FL WP | 1900 | 17500
MURDE, FL WP | TROYR, FL WP | 1900 | 17500
§ 95.3399 RNAV Route T399 Is Amended by Adding
EVIEE, AK WP | WHYTT, AK WP | 3600 | 17500
WHYTT, AK WP | NENANA, AK VORTAC | 3300 | 17500
Is Amended To Delete
EVIEE, AK WP | * SEAHK, AK WP | 4000 | 17500
* 4600—MCA SEAHK, AK WP, S BND
SEAHK, AK WP | NENANA, AK VORTAC | * 3300 | 17500
* 2800—MOCA
Is Amended To Read in Part
TALKEETNA, AK VOR/DME | * EGRAM, AK FIX | 6000 | 17500
* 6100—MCA EGRAM, AK FIX, N BND
EGRAM, AK FIX | * ZEKLI, AK WP | 6400 | 17500
* 7200—MCA ZEKLI, AK WP, N BND
ZEKLI, AK WP | * AILEE, AK FIX | 10100 | 17500
* 9100—MCA AILEE, AK FIX, S BND
AILEE, AK FIX | * CRISL, AK WP | 8200 | 17500
* 7000-MCA CRISL, AK WP, S BND
CRISL, AK WP | PAWWW, AK WP | 6900 | 17500
PAWWW, AK WP | * EVIEE, AK WP | 5800 | 17500
* 4800—MCA EVIEE, AK WP, S BND
§ 95.3484 RNAV Route T484 Is Added To Read
NELLO, GA FIX | TALLE, GA FIX | 5600 | 17500
TALLE, GA FIX | MILBY, SC WP | 5400 | 17500
MILBY, SC WP | BURGG, SC WP | 4600 | 17500
§ 95.3489 RNAV Route T489 Is Added To Read
BOLTS, FL WP | ATTAK, FL WP | 2000 | 17500
ATTAK, FL WP | NESST, FL FIX | 1700 | 17500
NESST, FL FIX | CEDDI, FL FIX | 1700 | 17500
CEDDI, FL FIX | CCITY, FL WP | * 2000 | 17500
* 1400—MOCA
CCITY, FL WP | GRNVL, FL WP | * 2100 | 17500
* 1600—MOCA
GRNVL, FL WP | YALMI, GA FIX | 2500 | 17500
YALMI, GA FIX | * HARKE, GA FIX | 2000 | 17500
* 2200—MCA HARKE, GA FIX, N BND
HARKE, GA FIX | SALER, GA FIX | 2600 | 17500
SALER, GA FIX | PCANN, GA WP | 2000 | 17500
§ 95.3491 RNAV Route T491 Is Added To Read
BOLTS, FL WP | EXWAY, FL WP | 2000 | 17500
EXWAY, FL WP | WALEE, FL WP | 2100 | 17500
WALEE, FL WP | OHLEE, FL WP | 2000 | 17500
OHLEE, FL WP | SIROC, GA WP | 2600 | 17500
§ 95.3493 RNAV Route T493 Is Added To Read
BOLTS, FL WP | CHAAZ, FL WP | 2000 | 17500
CHAAZ, FL WP | ORATE, FL FIX | 2000 | 17500
ORATE, FL FIX | CCITY, FL WP | * 2000 | 17500
* 1400—MOCA
CCITY, FL WP | VLDST, GA WP | 2100 | 17500
VLDST, GA WP | JOGOS, GA WP | 2000 | 17500
JOGOS, GA WP | WALPI, GA WP | 2200 | 17500
WALPI, GA WP | TIFFT, GA WP | 2000 | 17500
TIFFT, GA WP | DOOLY, GA WP | 2000 | 17500
§ 95.3495 RNAV Route T495 Is Added To Read
BOLTS, FL WP | ATTAK, FL WP | 2000 | 17500
ATTAK, FL WP | NESST, FL FIX | 1700 | 17500
NESST, FL FIX | DEANR, FL WP | * 2000 | 17500
* 1500—MOCA
DEANR, FL WP | BWDEN, FL WP | 2000 | 17500
§ 95.3499 RNAV Route T499 Is Added To Read
CORPUS CHRISTI, TX VORTAC | CARTI, TX FIX | 2000 | 17500
CARTI, TX FIX | LEMIG, TX FIX | 2200 | 17500
LEMIG, TX FIX | SAN ANTONIO, TX VORTAC | 2900 | 17500
SAN ANTONIO, TX VORTAC | STONEWALL, TX VORTAC | 4100 | 17500
STONEWALL, TX VORTAC | DILLO, TX WP | 3800 | 17500
§ 95.4000 High Altitude RNAV Routes
§ 95.4004 RNAV Route Q4 Is Amended by Adding
EL PASO, TX VORTAC | PECOS, TX VOR/DME | * 18000 | 45000
* 18000—GNSS MEA
* DME/DME/IRU MEA
PECOS, TX VOR/DME | FUSCO, TX FIX | * 18000 | 45000
* 18000—GNSS MEA
* DME/DME/IRU MEA
FUSCO, TX FIX | DILLO, TX WP | * 18000 | 45000
* 18000—GNSS MEA
* DME/DME/IRU MEA
DILLO, TX WP | COLLEGE STATION, TX VORTAC | * 18000 | 45000
* 18000—GNSS MEA
* DME/DME/IRU MEA
§ 95.4104 RNAV Route Q104 Is Amended To Delete
ACORI, AL WP | CABLO, GA WP | * 18000 | 45000
* 18000—GNSS MEA
* DME/DME/IRU MEA
CABLO, GA WP | HEVVN, FL FIX | * 18000 | 45000
* 18000—GNSS MEA
* DME/DME/IRU MEA
HEVVN, FL FIX | LEGGT, FL WP | * 18000 | 45000
* 18000—GNSS MEA
* DME/DME/IRU MEA |  |  |
LEGGT, FL WP | PLYER, FL FIX | * 18000 | 45000
* 18000—GNSS MEA
* DME/DME/IRU MEA
PLYER, FL FIX | SWABE, FL WP | * 18000 | 45000
* 18000—GNSS MEA
* DME/DME/IRU MEA
SWABE, FL WP | ENDEW, FL WP | * 18000 | 45000
* 18000—GNSS MEA
* DME/DME/IRU MEA
ENDEW, FL WP | ST PETERSBURG, FL VORTAC | * 18000 | 45000
* 18000—GNSS MEA
* DME/DME/IRU MEA
§ 95.4108 RNAV Route Q108 Is Added To Read
LOUISVILLE, KY VORTAC | ZIEBR, KY FIX | * 18000 | 45000
* GNSS REQUIRED
ZIEBR, KY FIX | SITTR, WV WP | * 18000 | 45000
* GNSS REQUIRED
SITTR, WV WP | DENNY, VA FIX | * 18000 | 45000
* GNSS REQUIRED
DENNY, VA FIX | MAULS, VA WP | * 18000 | 45000
* GNSS REQUIRED
MAULS, VA WP | QUART, VA WP | * 18000 | 45000
* GNSS REQUIRED
QUART, VA WP | HURTS, VA WP | * 18000 | 45000
* GNSS REQUIRED
HURTS, VA WP | SAWED, VA WP | * 18000 | 45000
* GNSS REQUIRED
SAWED, VA WP | KALDA, VA WP | * 18000 | 45000
* GNSS REQUIRED
KALDA, VA WP | ZJAAY, MD WP | * 18000 | 45000
* GNSS REQUIRED
ZJAAY, MD WP | BYSEL, MD WP | * 18000 | 45000
* GNSS REQUIRED
BYSEL, MD WP | ACTUP, DE WP | * 18000 | 45000
* GNSS REQUIRED
ACTUP, DE WP | SEA ISLE, NJ VORTAC | * 18000 | 45000
* GNSS REQUIRED
§ 95.4147 RNAV Route Q109 Is Amended To Delete
YURCK, NC WP | LAANA, NC WP | * 18000 | 45000
* 18000—GNSS MEA
* DME/DME/IRU MEA
LAANA, NC WP | TINKK, NC WP | * 18000 | 45000
* 18000—GNSS MEA
* DME/DME/IRU MEA
Is Amended by Adding
YURCK, NC WP | JOHAR, NC WP | * 18000 | 45000
* 18000—GNSS MEA
* DME/DME/IRU MEA
JOHAR, NC WP | TINKK, NC WP | * 18000 | 45000
* 18000—GNSS MEA
* DME/DME/IRU MEA
§ 95.4147 RNAV Route Q147 Is Added To Read
BURGG, SC WP | CHARLESTON, WV VOR/DME | * 18000 | 45000
* 18000—GNSS MEA
* DME/DME/IRU MEA
CHARLESTON, WV VOR/DME | JAMOX, OH FIX | * 18000 | 45000
* 18000—GNSS MEA
* DME/DME/IRU MEA
JAMOX, OH FIX | DRYER, OH VOR/DME | * 18000 | 45000
* 18000—GNSS MEA
* DME/DME/IRU MEA
§ 95.4149 RNAV Route Q149 Is Added To Read
BURGG, SC WP | APPLETON, OH VORTAC | * 18000 | 45000
* 18000—GNSS MEA
* DME/DME/IRU MEA
APPLETON, OH VORTAC | DRYER, OH VOR/DME | * 18000 | 45000
* 18000—GNSS MEA
* DME/DME/IRU MEA
§ 95.4801 RNAV Route Q801 Is Added To Read
HARPR, OR WP | FELIX, OR WP | * 18000 | 45000
* 18000—GNSS MEA
* DME/DME/IRU MEA
FELIX, OR WP | ECTOF, OR WP | * 18000 | 45000
* 18000—GNSS MEA
* DME/DME/IRU MEA
ECTOF, OR WP | WAPTO, WA FIX | * 18000 | 45000
* 18000—GNSS MEA
* DME/DME/IRU MEA
WAPTO, WA FIX | TATOOSH, WA VORTAC | * 18000 | 45000
* 18000—GNSS MEA
* DME/DME/IRU MEA
TATOOSH, WA VORTAC | U.S. CANADIAN BORDER | * 18000 | 45000
* 18000—GNSS MEA
* DME/DME/IRU MEA
U.S. CANADIAN BORDER | MACIE, OP WP | * 18000 | 45000
* GNSS REQUIRED
MACIE, OP WP | LAIRE, AK FIX | * 18000 | 45000
* GNSS REQUIRED
LAIRE, AK FIX | CSMOS, OP WP | * 18000 | 45000
* GNSS REQUIRED
CSMOS, OP WP | JOHNSTONE POINT, AK VOR/DME | * 18000 | 45000
* GNSS REQUIRED
JOHNSTONE POINT, AK VOR/DME | ANCHORAGE, AK VOR/DME | * 18000 | 45000
* GNSS REQUIRED

From | To | MEA
§ 95.6001 Victor Routes—U.S.
§ 95.6035 VOR Federal Airway V35 Is Amended To Read in Part
PHILIPSBURG, PA VORTAC | STONYFORK, PA VOR/DME | 4900 MAA-17500
§ 95.6076 VOR Federal Airway V76 Is Amended To Delete
SAN ANGELO, TX VORTAC | EVILE, TX FIX | 3700 MAA-17500
EVILE, TX FIX | BREDY, TX FIX | 3800 MAA-17500
BREDY, TX FIX | LLANO, TX VORTAC | 3500 MAA-17500
LLANO, TX VORTAC | CENTEX, TX VORTAC | 3200 MAA-17500
CENTEX, TX VORTAC | MOUZE, TX FIX | 2200 MAA-17500
MOUZE, TX FIX | INDUSTRY, TX VORTAC | 2100 MAA-17500
§ 95.6161 VOR Federal Airway V161 Is Amended To Delete
CENTER POINT, TX VORTAC | LLANO, TX VORTAC | 4000 MAA-17500
LLANO, TX VORTAC | BUILT, TX FIX | * 6000 MAA-17500
BUILT, TX FIX | * DUFFA, TX FIX | ** 6000
* 6000—MRA |  | MAA-17500
** 2900-MOCA |  |
DUFFA, TX FIX | MILLSAP, TX VORTAC | 3000 MAA-17500
§ 95.6558 VOR Federal Airway V558 Is Amended To Delete
LLANO, TX VORTAC | SLIMM, TX FIX | 3100 MAA-17500
SLIMM, TX FIX | CENTEX, TX VORTAC | 4100 MAA-17500
§ 95.6565 VOR Federal Airway V565 Is Amended To Delete
LLANO, TX VORTAC | AMUSE, TX FIX | 3500 MAA-17500
AMUSE, TX FIX | CENTEX, TX VORTAC | * 3300
* 2900-MOCA |  | MAA-17500
§ 95.6568 VOR Federal Airway V568 Is Amended To Delete
STONEWALL, TX VORTAC | LLANO, TX VORTAC | 3700 MAA-17500
§ 95.6477 ALASKA VOR Federal Airway V477 Is Amended To Delete
SELAWIK, AK VOR/DME | JELLE, AK FIX | 3500 MAA-17500
JELLE, AK FIX | AMBLER, AK NDB |
| NE BND | 5000
| SW BND | 4000 MAA-17500

From | To | MEA | MAA
§ 95.7001 JET Routes
§ 95.7133 JET Route J133 Is Amended To Delete
SITKA, AK NDB | * WOXOX, AK FIX | 20000 | 45000
* 20000—MCA WOXOX, AK FIX, E BND
WOXOX, AK FIX | ORCA BAY, AK NDB | 18000 | 45000
ORCA BAY, AK NDB | JOHNSTONE POINT, AK VOR/DME | 18000 | 45000
JOHNSTONE POINT, AK VOR/DME | ANCHORAGE, AK VOR/DME | 18000 | 45000
§ 95.7183 JET Route J183 Is Amended To Delete
PECOS, TX VOR/DME | LLANO, TX VORTAC | 20000 | 45000
LLANO, TX VORTAC | COLLEGE STATION, TX VORTAC | 18000 | 45000

Airway Segment: From | Airway Segment: To | Changeover Points: Distance | Changeover Points: From
§ 95.8005 JET Routes Changeover Points J183 Is Amended To Delete Changeover Point
LLANO, TX VORTAC | COLLEGE STATION, TX VORTAC | 93 | LLANO.

[FR Doc. 2024-23076 Filed 10-4-24; 8:45 am]

BILLING CODE 4910-13-P